Proclamation 8079 of October 30, 2006

National Hospice Month, 2006

By the President of the United States of America

A Proclamation

Americans demonstrate the great compassion of our country by caring for those in need. During National Hospice Month, we recognize hospice caregivers for their dedication to providing comfort and peace to individuals in their last days and helping build a society that values the life and dignity of every person.

Hospice physicians, nurses, counselors, and volunteers bring care and support to the terminally ill through physical, psychological, social, and spiritual aid. By helping control pain and minimize other symptoms, these men and women bring relief to those who are terminally ill and show them the utmost respect. Hospice care enables many of our citizens to spend their final days in comfort and dignity surrounded by loved ones. This palliative care plays a vital role in our Nation's health care system, and the dedicated work of hospice caregivers helps ensure that our citizens receive the services and support they need. Hospice caregivers also reach out to families and friends to provide guidance and counseling after the loss of a loved one.

Our Nation is grateful for the tireless efforts of hospice volunteers and medical professionals, and during National Hospice Month, we recognize the kindness of hospice caregivers and their devotion to making our country a more loving and caring place.

NOW, THEREFORE, I, GEORGE W. BUSH, President of the United States of America, by virtue of the authority vested in me by the Constitution and laws of the United States, do hereby proclaim November 2006 as National Hospice Month. I encourage all Americans to observe this month with appropriate programs and activities. I also ask Americans to recognize our health care professionals and volunteers for their contributions to helping provide comfort and care to those facing terminal illness.

IN WITNESS WHEREOF, I have hereunto set my hand this thirtieth day of October, in the year of our Lord two thousand six, and of the Independence of the United States of America the two hundred and thirty-first.

[FR Doc. 06-9064

Filed 11-1-06; 8:45 am]

Billing code 3195-01-P